DEPARTMENT OF LABOR

Occupational Safety and Health Administration

[Docket No. OSHA-2010-0046]

QPS Evaluation Services, Inc.: Grant of Expansion of Recognition

AGENCY: Occupational Safety and Health Administration (OSHA), Labor.

ACTION: Notice.

SUMMARY: In this notice, OSHA announces the final decision to expand the scope of recognition for QPS Evaluation Services, Inc. as a Nationally Recognized Testing Laboratory (NRTL).

DATES: The expansion of the scope of recognition becomes effective on December 15, 2021.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2110 or email: robinson.kevin@dol.gov.

SUPPLEMENTARY INFORMATION:

I. Notice of Final Decision

OSHA hereby gives notice of the expansion of the scope of recognition of QPS Evaluation Services, Inc. (QPS) as a NRTL. QPS's expansion covers the addition of eleven test standards to the NRTL scope of recognition.

OSHA recognition of a NRTL signifies that the organization meets the requirements specified in 29 CFR 1910.7. Recognition is an acknowledgment that the organization can perform independent safety testing and certification of the specific products covered within the scope of recognition and is not a delegation or grant of government authority. As a result of recognition, employers may use products properly approved by the NRTL to meet OSHA standards that require testing and certification of the products.

The agency processes applications by a NRTL for initial recognition and for an expansion or renewal of this recognition, following requirements in Appendix A to 29 CFR 1910.7. This appendix requires that the agency publish two notices in the Federal Register in processing an application. In the first notice, OSHA announces the application and provides a preliminary finding. In the second notice, the agency provides the final decision on the application. These notices set forth the NRTL's scope of recognition or modifications of that scope. OSHA maintains an informational web page for each NRTL, including QPS, which details the NRTL's scope of recognition. These pages are available from the OSHA website at http://www.osha.gov/dts/otpca/nrtl/index.html.

QPS submitted an application, dated January 30, 2020 (OSHA-2010-0046-0015) to add eleven additional test standards to QPS's NRTL recognition. OSHA staff performed a detailed analysis of the application packet and reviewed other pertinent information. OSHA did not perform any on-site reviews in relation to this application.

OSHA published the preliminary notice announcing QPS's expansion application in the Federal Register on August 16, 2021 (86 FR 45759). The agency requested comments by August 31, 2021, but it received no comments in response to this notice. OSHA is now proceeding with this final notice to grant expansion of QPS's scope of recognition.

To obtain or review copies of all public documents pertaining to QPS's application, go to http://www.regulations.gov or contact the Docket Office at (202) 693-2350 (TTY (877) 889-5627) for assistance in locating docket submissions. Docket No. OSHA-2010-0046 contains all materials in the record concerning QPS's recognition.

II. Final Decision and Order

OSHA staff examined QPS's expansion application, its capability to meet the requirements of the test standard, and other pertinent information. Based on its review of this evidence, OSHA finds that QPS meets the requirements of 29 CFR 1910.7 for expansion of its recognition, subject to the limitations and conditions listed in this notice. OSHA, therefore, is proceeding with this final notice to grant this expansion to QPS's scope of recognition. OSHA limits the expansion of QPS's recognition to testing and certification of products for demonstration of conformance to the test standards listed below in Table 1.

Table 1—List of Appropriate Test Standards for Inclusion in QPS's NRTL Scope of Recognition
Test standard | Test standard title
UL 60079-0 | Explosive Atmospheres—Part 0: Equipment—General Requirements.
UL 60079-1 | Explosive Atmospheres—Part 1: Equipment Protection by Flameproof Enclosures “d”.
UL 60079-2 | Explosive Atmospheres—Part 2: Equipment Protection by Pressurized Enclosure “p”.
UL 60079-7 | Explosive Atmospheres—Part 7: Equipment Protection by Increased Safety “e”.
UL 60079-11 | Explosive Atmospheres—Part 11: Equipment Protection by Intrinsic Safety “i”.
UL 60079-15 | Explosive Atmospheres—Part 15: Equipment Protection by Type of Protection “n”.
UL 60079-18 | Explosive Atmospheres—Part 18: Equipment Protection by Encapsulation “m”.
UL 60079-25 | Explosive Atmospheres—Part 25: Intrinsically Safe Electrical Systems.
UL 60079-26 | Explosive Atmospheres—Part 26: Equipment for Use in Class I, Zone 0 Hazardous (Classified) Locations.
UL 60079-28 | Explosive Atmospheres—Part 28: Protection of Equipment and Transmission Systems Using Optical Radiation.
UL 60079-31 | Explosive Atmospheres—Part 31: Equipment Dust Ignition Protection by Enclosure “t”.

OSHA's recognition of any NRTL for a particular test standard is limited to equipment or materials for which OSHA standards require third-party testing and certification before using them in the workplace. Consequently, if a test standard also covers any products for which OSHA does not require such testing and certification, a NRTL's scope of recognition does not include these products.

The American National Standards Institute (ANSI) may approve the test standard listed above as an American National Standard. However, for convenience, OSHA may use the designation of the standards-developing organization for the standard as opposed to the ANSI designation. Under the NRTL Program's policy (see OSHA Instruction CPL 01-00-004, Chapter 2, Section VIII), only standards determined to be appropriate test standards may be approved for NRTL recognition. Any NRTL recognized for an appropriate test standard may use either the proprietary version of the test standard or the ANSI version of that standard. Contact ANSI to determine whether a test standard is currently ANSI-approved.

A. Conditions

In addition to those conditions already required by 29 CFR 1910.7, QPS must abide by the following conditions of the recognition:

1. QPS must inform OSHA as soon as possible, in writing, of any change of ownership, facilities, or key personnel, and of any major change in its operations as a NRTL, and provide details of the change(s);

2. QPS must meet all the terms of its recognition and comply with all OSHA policies pertaining to this recognition; and

3. QPS must continue to meet the requirements for recognition, including all previously published conditions on QPS's scope of recognition, in all areas for which it has recognition.

Pursuant to the authority in 29 CFR 1910.7, OSHA hereby expands the scope of recognition of QPS, subject to the limitations and conditions specified above.

III. Authority and Signature

Douglas L. Parker, Assistant Secretary of Labor for Occupational Safety and Health, 200 Constitution Avenue NW, Washington, DC 20210, authorized the preparation of this notice. Accordingly, the agency is issuing this notice pursuant to 29 U.S.C. 657(g)(2), Secretary of Labor's Order No. 8-2020 (85 FR 58393, September 18, 2020) and 29 CFR 1910.7.

Signed at Washington, DC, on December 7, 2021.
Douglas L. Parker,
Assistant Secretary of Labor for Occupational Safety and Health.

[FR Doc. 2021-27120 Filed 12-14-21; 8:45 am]

BILLING CODE 4510-26-P